DEPARTMENT OF DEFENSE

Office of the Secretary

[Docket ID DOD-2018-OS-0011]

Proposed Collection; Comment Request

AGENCY: Office of the Assistant Secretary of Defense for Manpower and Reserve Affairs, DoD.

ACTION: Information collection notice.

SUMMARY: In compliance with the Paperwork Reduction Act of 1995, the Office of the Assistant Secretary of Defense for Manpower and Reserve Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 21, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Civilian Personnel Advisory Service (DCPAS), ATTN: Dakhalfani Boyd, 4800 Mark Center Drive, Alexandria, VA 22350-1100, or call DCPAS, Enterprise Solutions and Integration, at 571-372-2120.

SUPPLEMENTARY INFORMATION:

Title; Associated Form; and OMB Number: Department of Defense New Hire Forms; DD X735, DD X739, DD X741; OMB Control Number 0704-XXXX.

Needs and Uses: This information collection is necessary to ensure that all new hires across the Department of Defense meet the basic requirements of civil service. The New Hire Forms, DD X735, “Release/Consent Statement,” DD X739, “Civilian Employee's Military Reserve, Guard, or Retiree Data,” and DD X741, “Term Employment Statement of Understanding,” supplant and standardize the paperwork used throughout the Department of Defense to verify the eligibility of onboarding employees.

Affected Public: Individuals or Households.

Annual Burden Hours: 6,833.35.

Number of Respondents: 80,000.

Responses per Respondent: 80,000 respondents fill out DD X739; approximately 1000 respondents drawn from that population will each fill out DD X735 and DD X741 as required.

Annual Responses: 82,000.

Average Burden per Response: 5 minutes.

Frequency: On occasion.

For all forms, the purpose is to transmit new hire and onboarding data between the DoD civilian personnel system of record, the Defense Civilian Personnel Data System, and the OPM hiring systems, namely USA Staffing Upgrade, and eOPF.

Dated: March 16, 2018.
Aaron Siegel,
Alternate OSD Federal Register, Liaison Officer, Department of Defense.

[FR Doc. 2018-05713 Filed 3-20-18; 8:45 am]

BILLING CODE 5001-06-P